DEPARTMENT OF TRANSPORTATION

Federal Aviation Administration

14 CFR Part 119

[Docket No. FAA-2007-29313 (formerly 28154); Amendment No. 119-12]

RIN 2120-AF62

Commuter Operations and General Certification and Operations Requirements; Qualifications for Director of Maintenance for Part 135 Operations

AGENCY: Federal Aviation Administration, DOT.

ACTION: Final rule; technical amendment.

SUMMARY: The Federal Aviation Administration (FAA) is making a minor technical change to a final rule, Commuter Operations and General Certification and Operations Requirements. This final rule established the requirements for certain management officials for certificate holders. In the final rule the FAA unintentionally included an incorrect experience requirement for the Director of Maintenance for commuter and on-demand operators. This amendment corrects that experience requirement.

DATES: Effective on September 27, 2007.

FOR FURTHER INFORMATION CONTACT: Kim A. Barnette, Flight Standards Service (AFS-350), Federal Aviation Administration, 800 Independence Ave., SW., Washington, DC; phone (202) 493-4922; e-mail Kim.A.Barnette@faa.gov.

SUPPLEMENTARY INFORMATION: On December 20, 1995 (60 FR 65832), the FAA published a final rule in the Federal Register, better known as “the commuter rule”, that established the requirements for certain management officials in parts 121 and 135. Although the FAA clearly stated in the preamble to this final rule that “In addition to other requirements, these candidates will have to have three years of experience (within their respective fields) within the past six years to be eligible for a Director position,” the specific years of experience in the rule language in part 135 was incorrect. The part 121 experience requirement of § 119.67 correctly states this “3 years within 6 years” experience requirement; however the part 135 requirement in § 119.71 was incorrectly stated as “3 years within 3 years.”

By petition for rulemaking dated September 5, 2007, the Regional Air Cargo Carriers Association (RACCA) asked the FAA to correct this technical error. The RACCA correctly pointed out that it makes no sense to have an experience requirement in part 135 that is more stringent than the same requirement in part 121.

Technical Amendment

This technical amendment will correct an unintentional error in the years of experience requirement in § 119.71 to make it consistent with § 119.67.

Justification for Immediate Adoption

Because this action corrects an unintentional error in rule language for § 119.71, the FAA finds that good cause exists under 5 U.S.C. 553(d) for making this rule effective upon publication.

List of Subjects in 14 CFR Part 119

Administrative practice and procedure, Air carriers, Aircraft, Aviation safety, Charter flights, Reporting and recordkeeping requirements.

The Amendment

In consideration of the foregoing, the FAA amends 14 CFR chapter I as follows:

PART 119—CERTIFICATION: AIR CARRIERS AND COMMERCIAL OPERATORS

1. The authority citation for part 119 continues to read as follows:

Authority: 49 U.S.C. 106(g), 1153, 40101, 40102, 40103, 40113, 44105, 44106, 44111, 44701-44717, 44722, 44901, 44903, 44904, 44906, 44912, 44914, 44936, 44938, 46103, 46105.

2. Amend § 119.71 by revising paragraphs (e)(1) and (2) to read as follows:

§ 119.71 Management personnel: Qualifications for operations conducted under part 135 of this chapter.

* * * * *

(e) * * *

(1) Have 3 years of experience within the past 6 years maintaining aircraft as a certificated mechanic, including, at the time of appointment as Director of Maintenance, experience in maintaining the same category and class of aircraft as the certificate holder uses; or

(2) Have 3 years of experience within the past 6 years repairing aircraft in a certificated airframe repair station, including 1 year in the capacity of approving aircraft for return to service.

* * * * *

Issued in Washington, DC, on September 19, 2007.
Pamela Hamilton-Powell,
Director, Office of Rulemaking.

[FR Doc. E7-19056 Filed 9-26-07; 8:45 am]

BILLING CODE 4910-13-P